DEPARTMENT OF DEFENSE

Office of the Secretary

[Docket ID: DoD-2015-OS-0010]

Manual for Courts-Martial; Proposed Amendments

AGENCY: Joint Service Committee (JSC) on Military Justice, DoD.

ACTION: Annual Review of the Manual for Courts-Martial, United States.

SUMMARY: The JSC is conducting its annual review of the Manual for Courts-Martial (MCM), United States. The committee invites members of the public to suggest changes to the MCM. Please provide supporting rationale for any proposed changes.

In light of the significant changes to the military justice system resulting from the National Defense Authorization Acts for Fiscal Years 2014 and 2015, the JSC will not consider proposed changes submitted prior to October 1, 2014 during this annual review. If the proponent of any proposed change submitted prior to October 1, 2014 would like a previously submitted proposal to be considered by the JSC, it must be resubmitted as explained in this notice.

DATES: Proposed changes must be received no later than April 6, 2015.

ADDRESSES: You may submit comments, identified by docket number and title, by any of the following methods:

• Federal eRulemaking Portal: http://www.regulations.gov.

Follow the instructions for submitting comments.

• Mail: Federal Docket Management System Office, 4800 Mark Center Drive, East Tower, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Captain Harlye S. Carlton, USMC, Executive Secretary, JSC, at (703) 693-9299 or via email at harlye.carlton@usmc.mil.

SUPPLEMENTARY INFORMATION: The JSC is conducting this annual review of the MCM pursuant to Executive Order 12473—Manual for Courts-Martial, United States, 1984, and Department of Defense Directive 5500.17, Role and Responsibility of the Joint Service Committee (JSC) on Military Justice.

Dated: January 30, 2015.
Aaron Siegel,
Alternate OSD Federal Register Liaison Officer, Department of Defense.

[FR Doc. 2015-02126 Filed 2-3-15; 8:45 am]

BILLING CODE 5001-06-P